DEPARTMENT OF ENERGY

10 CFR Part 430

[EERE-2021-BT-TP-0023]

RIN 1904-AF18

Energy Conservation Program: Test Procedure for Cooking Products; Correction

AGENCY: Office of Energy Efficiency and Renewable Energy, Department of Energy.

ACTION: Correcting amendments.

SUMMARY: On August 22, 2022, the U.S. Department of Energy (“DOE”) published a final rule adopting test procedures for a category of cooking products, i.e., conventional cooking tops. This document corrects errors and omissions in that final rule. Neither the errors and omissions nor the corrections affect the substance of the rulemaking or any conclusions reached in support of the final rule.

DATES: Effective February 7, 2023.

FOR FURTHER INFORMATION CONTACT:

Dr. Carl Shapiro, U.S. Department of Energy, Office of Energy Efficiency and Renewable Energy, Building Technologies Office, EE-5B, 1000 Independence Avenue SW, Washington, DC 20585-0121. Telephone: (202) 287-5649. Email: ApplianceStandardsQuestions@ee.doe.gov.

Ms. Melanie Lampton, U.S. Department of Energy, Office of the General Counsel, GC-33, 1000 Independence Avenue SW, Washington, DC 20585-0121. Telephone: (240) 751-5157. Email: Melanie.Lampton@hq.doe.gov.

SUPPLEMENTARY INFORMATION:

I. Background

On August 22, 2022, DOE published a final rule (“August 2022 Final Rule”) establishing a test procedure for cooking tops at title 10 of the Code of Federal Regulations (“CFR”) part 430, subpart B, appendix I1 (“appendix I1”). 87 FR 51492. Since publication of the August 2022 Final Rule, DOE has identified errors and omissions in the regulatory text. DOE is issuing this rule to correct certain technical errors and omissions in the August 2022 Final Rule, specifically in appendix I1 of 10 CFR part 430, and to assist regulated entities with compliance efforts.

In Table 3.1 of the regulatory text of the August 2022 Final Rule, the first column (i.e., Minimum nominal gas burner input rate) was erroneously labeled with a “less than” sign (), as it was labeled in Table III.2 in the preamble of the August 2022 Final Rule. 87 FR 51514, 51542. This notice corrects the typographical error.

Additionally, DOE discussed that it was finalizing its proposal to normalize the energy use of the minimum-above-threshold cycle to represent an Energy Test Cycle with a final water temperature of exactly 90 degrees Celsius as proposed in the November 4, 2022 Notice of Proposed Rulemaking. 87 FR 51510-51511; See also 86 FR 60974. However, section 4.1.1.2.2 of appendix I1 as codified in the August 2022 Final Rule inadvertently performs this normalization on the gas volume consumption (represented by the symbol “V”) rather than on the gas energy consumption (represented by the symbol “Eg”). Subsequently, the equation for calculating per-cycle active mode gas energy consumption in section 4.1.1.2.4 of appendix I1 as codified by the August 2022 Final Rule uses the normalized gas volume consumption calculated in section 4.1.1.2.2 (multiplied by the gas correction factor “CF” and the heating value of the gas “H” to determine gas energy consumption). In this notice, DOE is correcting section 4.1.1.2.2 of appendix I1 to calculate the normalized gas energy consumption rather than gas volume consumption; accordingly, DOE is also correcting section 4.1.1.2.4 to use the normalized gas energy consumption value calculated in section 4.1.1.2.2.

Finally, as codified by the August 2022 Final Rule, section 3.3.1.1 of appendix I1 specifies recording the higher heating value (“H”) for the natural gas or propane supply. A complete test of a conventional gas cooking top typically includes multiple test cycles on each cooking zone (e.g., the minimum-above-threshold cycle and maximum-below-threshold cycle), and the higher heating value may differ for each test cycle. The higher heating value is used in the equation in section 4.1.1.2.2 as corrected by this final rule. DOE has determined that the current instruction in section 3.3.1.1 may not provide sufficient clarity that the value of H must be recorded for each test cycle for each cooking zone. Therefore, DOE is adding language in section 3.3.1.1 of appendix I1 to specify recording the higher heating value of the gas “for each test.”

II. Need for Correction

As published, the regulatory text in August 2022 Final Rule may lead to inaccurately calculated test results due to omitted language and the use of incorrect symbols and formulas. Because this final rule would simply correct errors and omissions in the text without making substantive changes in the August 2022 Final Rule, the changes addressed in this document are technical in nature.

III. Procedural Issues and Regulatory Review

DOE has concluded that the determinations made pursuant to the various procedural requirements applicable to the August 2022 Final Rule remain unchanged for these final rule technical corrections. These determinations are set forth in the August 2022 Final Rule. 87 FR 51492, 51533-51537.

Pursuant to the Administrative Procedure Act, 5 U.S.C. 553(b), DOE finds that there is good cause to not issue a separate notice to solicit public comment on those technical corrections contained in this document. Issuing a separate notice to solicit public comment would be impracticable, unnecessary, and contrary to the public interest. As explained previously, the corrections in this document do not affect the substance of or any of the conclusions reached in support of the August 2022 Final Rule. Additionally, given the August 2022 Final Rule is a product of an extensive administrative record with numerous opportunities for public comment, DOE finds additional comment on the technical corrections is unnecessary. Therefore, providing prior notice and an opportunity for public comment on correcting objective errors and omissions that do not change the substance of the test procedure serves no useful purpose.

Further, this rule correcting errors and omissions makes non-substantive changes to the test procedure in the August 2022 Final Rule. As such, this rule is not subject to the 30-day delay in effective date requirement of 5 U.S.C. 553(d) otherwise applicable to rules that make substantive changes.

List of Subjects in 10 CFR Part 430

Administrative practice and procedure, Confidential business, Energy conservation, Household appliances, Imports, Intergovernmental relations, Small businesses.

Signing Authority

This document of the Department of Energy was signed on January 30, 2023, by Francisco Alejandro Moreno, Acting Assistant Secretary for Energy Efficiency and Renewable Energy, U.S. Department of Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 30, 2023.
Treena V. Garrett,
Federal Register Liaison Officer, U.S. Department of Energy.

For the reasons stated in the preamble, DOE corrects part 430 of chapter II, subchapter D, of title 10 of the Code of Federal Regulations by making the following correcting amendments:

PART 430—ENERGY CONSERVATION PROGRAM FOR CONSUMER PRODUCTS

1. The authority citation for part 430 continues to read as follows:

Authority: 42 U.S.C. 6291-6309; 28 U.S.C. 2461 note.

2. Appendix I1 to subpart B of part 430 is amended by:

a. Revising Table 3.1;

b. In section 3.3.1.1, removing the word “supply” wherever it appears, and adding in its place the words “supply, for each test”; and

c. Revising sections 4.1.1.2.2 and 4.1.1.2.4.

The additions and revisions read as follows:

Appendix I1 to Subpart B of Part 430—Uniform Test Method for Measuring the Energy Consumption of Conventional Cooking Products

* * * * *

3. * * *

3.1.1.2.2 * * *

Table 3.1—Test Vessel Selection for Conventional Gas Cooking Tops
Nominal gas burner input rate (Btu/h): Minimum (>) | Nominal gas burner input rate (Btu/h): Maximum (≤) | Test vessel diameter (mm) | Water load mass (g)
| 5,600 | 210 | 2,050
5,600 | 8,050 | 240 | 2,700
8,050 | 14,300 | 270 | 3,420
14,300 |  | 300 | 4,240

* * * * *

4. * * *

4.1.1.2.2 Conventional gas cooking top per-cooking zone normalized active mode gas energy consumption. For each cooking zone, calculate the per-cooking zone normalized active mode gas energy consumption of a conventional gas cooking top, Eg, in Btu, using the following equation:

Eg = Egt,ETC

for cooking zones where an Energy Test Cycle was measured in section 3.1.4.5 of this appendix, and

for cooking zones where a minimum-above-threshold cycle and a maximum-below-threshold cycle were measured in section 3.1.4.5 of this appendix.

Where:

Egt,ETC = the as-tested gas energy consumption of the Energy Test Cycle for the cooking zone, in Btu, calculated as the product of: V, the gas consumption of the Energy Test Cycle, as determined in section 3.1.4.5 of this appendix, in cubic feet; CF, the gas correction factor to standard temperature and pressure for the test, as calculated in section 4.1.1.2.1 of this appendix; and H, either Hn or Hp, the heating value of the gas used in the test as specified in sections 2.2.2.1 and 2.2.2.2 of this appendix, expressed in Btu per standard cubic foot of gas;

Egt,MAT = the as-tested gas energy consumption of the minimum-above-threshold power setting for the cooking zone, in Btu, calculated as the product of: V, the gas consumption of the minimum-above-threshold power setting, as determined in section 3.1.4.5 of this appendix, in cubic feet; CF, the gas correction factor to standard temperature and pressure for the test, as calculated in section 4.1.1.2.1 of this appendix; and H, either Hn or Hp, the heating value of the gas used in the test as specified in sections 2.2.2.1 and 2.2.2.2 of this appendix, expressed in Btu per standard cubic foot of gas;

Egt,MBT = the as-tested gas energy consumption of the maximum-below-threshold power setting for the cooking zone, in Btu, calculated as the product of: V, the gas consumption of the maximum-below-threshold power setting, as determined in section 3.1.4.5 of this appendix, in cubic feet; CF, the gas correction factor to standard temperature and pressure for the test, as calculated in section 4.1.1.2.1 of this appendix; and H, either Hn or Hp, the heating value of the gas used in the test as specified in sections 2.2.2.1 and 2.2.2.2 of this appendix, expressed in Btu per standard cubic foot of gas;

TS,MAT = the smoothened water temperature at the end of the minimum-above-threshold power setting test for the cooking zone, in degrees Celsius; and

TS,MBT = the smoothened water temperature at the end of the maximum-below-threshold power setting test for the cooking zone, in degrees Celsius.

* * * * *

4.1.1.2.4 Conventional gas cooking top per-cycle active mode gas energy consumption. Calculate the per-cycle active mode gas energy consumption of a conventional gas cooking top, ECGG, in Btu, using the following equation:

Where:

n, mz, and 2853 are defined in section 4.1.1.1.2 of this appendix; and

Egz = the normalized gas energy consumption representative of the Energy Test Cycle for each cooking zone, as calculated in section 4.1.1.2.2 of this appendix, in Btu.

* * * * *

[FR Doc. 2023-02200 Filed 2-6-23; 8:45 am]

BILLING CODE 6450-01-P